DEPARTMENT OF HOUSING AND URBAN DEVELOPMENT

[Docket No. FR-7001-N-40]

30-Day Notice of Proposed Information Collection: Evaluation of the Supportive Services Demonstration

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: August 29, 2018.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on February 28, 2018 at 83 FR 8691.

A. Overview of Information Collection

Title of Information Collection: Evaluation of the Supportive Services Demonstration.

OMB Approval Number: 2528—New.

Type of Request: New.

Form Number: NA.

Description of the need for the information and proposed use: The U.S. Department of Housing and Urban Development (HUD) has contracted with Abt Associates Inc. to conduct an evaluation of HUD's Supportive Services Demonstration (SSD), also referred to as Integrated Wellness in Supportive Housing (IWISH). The SSD is a three-year demonstration sponsored by HUD to test the impact of a new model of housing-based supportive services on the healthcare utilization and housing stability of low-income older adults. The goal of the SSD model is to help older adults in HUD-assisted housing to age in place successfully. The SSD model funds a full-time Resident Wellness Director (RWD) and part-time Wellness Nurse (WN) to work in HUD-assisted housing developments that either predominantly or exclusively serve households headed by people aged 62 or over. These services are not typically available in HUD-assisted housing developments for this population and are anticipated to positively impact outcomes.

Eligible HUD-assisted properties applied for the demonstration and were randomly assigned to one of three groups: A “treatment group” that received grant funding to hire a RWD and WN and implement the SSD model (40 properties); an “active control” group that did not receive grant funding but received a stipend to participate in the evaluation (40 properties); and a “passive control” group that received neither grant funding nor a stipend (44 properties). The random assignment permits an evaluation that quantifies the impact of the SSD model by comparing outcomes at the 40 treatment group properties to outcomes at the 84 properties in the active and passive control groups.

Under contract with HUD's Office of Policy Development and Research, Abt Associates Inc. will conduct a two-part evaluation—a process study to describe the implementation of the demonstration and an impact study to measure the impact of the SSD model on residents' use of healthcare services and housing stability. The evaluation features analysis of administrative data and the following types of baseline data collection from human subjects: (1) An initial questionnaire with housing and wellness staff (RWD, Service Coordinator, and/or property management) at each of the 40 treatment properties and the 40 active control properties; (2) interviews with housing and wellness staff (RWDs, WNs, Service Coordinators, and property management) at each of the 40 treatment properties and the 40 active control properties; (3) 24 focus groups with residents and caregivers of residents. The purpose of these activities is to collect data from multiple perspectives about implementation experience with the demonstration, the strengths and weakness of the model, and how resident wellness and service coordination activities compare across treatment and control properties. The evaluation will also incorporate data collected by The Lewin Group as part of the implementation of the demonstration. Information on the SSD information collection was published in the Federal Register on January 9, 2017 (FR-5915-N-14).

Respondents (i.e., Affected Public): Resident Wellness Directors; Wellness Nurses; Service Coordinators; housing property staff; HUD-assisted residents (aged 62 and over); and caregivers of HUD-assisted residents.

Total Estimated Burdens: The estimated average burden for the initial questionnaire is 1.5 hours per person per questionnaire. The questionnaire will take up to 60 minutes to complete, with an additional 30 minutes for scheduling and preparation. There will be one to two respondents from each property. The respondents for the initial questionnaire are Resident Wellness Directors, Service Coordinators, and housing property staff. The estimated number of respondents for the initial questionnaire is 120 and the estimated burden is 180 hours.

The estimated average burden for the interviews is 2.5 hours. The interviews will take up to two hours, with an additional 30 minutes for scheduling and preparation. The respondents for the interviews are Resident Wellness Directors, Wellness Nurses, Service Coordinators, and housing property staff. There will be between one and four interview respondents per property for an estimated number of respondents of 220 and an estimated burden of 550 hours.

The estimated average burden for each focus group with residents is 1.75 hours. The focus group discussion will last up to 90 minutes, with an additional 15 minutes at the start for participants to complete the consent process and orient themselves to the group. The respondents for the resident focus groups are residents aged 62 and over of HUD-assisted properties. There will be an average of 10 participants per focus group and 21 focus groups, for a total of 210 respondents and 368 burden hours.

The estimated average burden for the caregiver focus group is 1.75 hours. The focus group discussion will take up to 90 minutes, with an additional 15 minutes at the start for participants to complete the consent process and orient themselves to the group. The respondents for the caregiver focus groups are the informal caregivers (mostly friends and family) of residents aged 62 and over of HUD-assisted properties. There will be an average of 10 participants per focus group and three focus groups, for a total of 30 respondents and 53 burden hours.

Exhibit A-2 provides the total estimated hour and cost burden of the information collection. The “Initial Questionnaire” category in Exhibit A-2 includes three data collection instruments: Initial Questionnaire for Treatment Properties; Initial Questionnaire for Active Control Properties with a Service Coordinator; and Initial Questionnaire for Active Control Properties without a Service Coordinator. The “Interviews” category includes five data collection instruments: Interview Guide for Resident Wellness Directors at Treatment Properties; Interview Guide for Wellness Nurses at Treatment Properties; Interview Guide for Housing Property Staff at Treatment Properties; Interview Guide for Service Coordinators at Active Control Properties; and Interview Guide for Housing Property Staff at Active Control Properties. The “Focus Groups with Residents” category includes three data collection instruments: Moderator Guide for Focus Groups with IWISH Participants; Moderator Guide for Focus Groups with IWISH Non-Enrollees; and Moderator Guide for Focus Groups with Residents of Active Control Properties. The “Focus Groups with Caregivers” category includes one data collection instrument: Moderator Guide for Focus Groups with Caregivers of IWISH Participants.

Estimated Hour and Cost Burden of Information Collection
Information collection | Number of respondents | Frequency of response | Responses per annum | Burden hour per response | Annual burden hour | Hourly cost per response | Annual cost
Initial Questionnaire | 120.00 | 1.00 | 120.00 | 1.50 | 180.00 | $34.04 | $6,127.20
Interviews | 220.00 | 1.00 | 220.00 | 2.50 | 550.00 | 34.04 | 18,722.00
Focus Groups with Residents | 210.00 | 1.00 | 210.00 | 1.75 | 367.50 | 7.90 | 2,903.25
Focus Groups with Caregivers | 30.00 | 1.00 | 30.00 | 1.75 | 52.50 | 27.70 | 1,454.25
Total | 580.00 |  |  |  | 1,151.00 |  | 29,206.70

The total estimated annual cost for this information collection is $29,206.70.

To estimate the cost per hour for the questionnaire and interview respondents, we use the most recent (May 2016) Bureau of Labor Statistics, Occupational Employment Statistics median hourly wage for selected occupations classified by Standard Occupational Classification (SOC) codes and added 31.7 percent to account for benefits costs. (According to the Bureau of Labor Statistics' Employer Costs for Employee Compensation data from September 2017, benefit costs averaged 31.7 percent of employer costs for employee compensation across all job categories.)

The hourly cost per response for the initial questionnaire, $34.04, is a weighted average of the estimated hourly cost for RWDs, service coordinators, and property managers. To estimate hourly wage rates for resident wellness directors and service coordinators, we used the occupation code Healthcare Social Workers (21-1022) with a median hourly wage of $25.85 and an estimated cost with benefits of $34.04. For property managers, we used the occupation code Property, Real Estate, and Community Association Managers (11-940) with a median hourly wage of $27.70 and an estimated cost with benefits of $34.04.

The hourly cost per response for the interviews, $34.04, is a weighted average of the estimated hourly cost for RWDs, service coordinators, property managers, and WNs. As discussed above, the estimated hourly cost for resident wellness directors and service coordinators is $34.04 and the estimated hourly cost for property managers is $34.04. For WNs, we used the occupation code Registered Nurses (29-1141) with a median hourly wage of $34.04 and an estimated cost with benefits of $34.04.

The hourly cost for the focus groups with residents is $7.90. Most of the properties in the SSD are funded through HUD's Supportive Housing for the Elderly (Section 202) program. According to HUD's Picture of Subsidized Households for 2016. (https://www.huduser.gov/portal/datasets/assthsg.html), the average household income for Section 202 residents is $13,311. Some 98 percent of households have something other than wages or welfare benefits as their major source of income, in most cases Social Security benefits. To estimate the hourly cost for the residents participating in focus groups, we translated the average monthly Social Security benefit for retired workers, which in 2017 was $1,369 (https://www.ssa.gov/news/press/factsheets/basicfact-alt.pdf) into an hourly rate of $7.90 per hour (by multiplying by 12 months and dividing by 2,080 hours).

The hourly cost for the focus groups with caregivers is $27.70. To estimate hourly costs for the caregivers participating in focus groups, we used the median annual household income from the 2016 American Community Survey, $57,617, and divided it by 2,080 hours to arrive at an hourly rate of $27.70.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 18, 2018.
Anna P. Guido,
Department Reports Management Officer, Office of the Chief Information Officer.

[FR Doc. 2018-16145 Filed 7-27-18; 8:45 am]

BILLING CODE 4210-67-P